DEPARTMENT OF ENERGY

Federal Energy Regulatory Commission

Combined Notice of Filings #1

August 18, 2014.

Take notice that the Commission received the following electric corporate filings:

Docket Numbers: EC14-125-000.

Applicants: Wheelabrator Technologies, Inc.

Description: Application for Authorization of Transactions under FPA Section 203 of Wheelabrator Technologies Inc. on behalf of its Public Utility Subsidiaries.

Filed Date: 8/15/14.

Accession Number: 20140815-5171.

Comments Due: 5 p.m. ET 9/5/14.

Take notice that the Commission received the following electric rate filings:

Docket Numbers: ER10-2302-005.

Applicants: Public Service Company of New Mexico.

Description: Notice of Change in Status of Public Service Company of New Mexico.

Filed Date: 8/18/14.

Accession Number: 20140818-5082.

Comments Due: 5 p.m. ET 9/8/14.

Docket Numbers: ER10-2474-010.

Applicants: Sierra Pacific Power Company.

Description: Market-Based Rate Tariff, Volume No. 7 Amendments to be effective 8/16/2014.

Filed Date: 8/15/14.

Accession Number: 20140815-5131.

Comments Due: 5 p.m. ET 9/5/14.

Docket Numbers: ER10-2475-010.

Applicants: Nevada Power Company.

Description: Market-Based Rate Tariff, Volume No. 11 Amendments to be effective 8/16/2014.

Filed Date: 8/15/14.

Accession Number: 20140815-5129.

Comments Due: 5 p.m. ET 9/5/14.

Docket Numbers: ER13-83-007.

Applicants: Duke Energy Progress, Inc., Duke Energy Carolinas, LLC.

Description: Order 1000 SERTP August 2014 Compliance Filing to be effective 6/1/2014.

Filed Date: 8/18/14.

Accession Number: 20140818-5101.

Comments Due: 5 p.m. ET 9/8/14.

Docket Numbers: ER13-366-003.

Applicants: Southwest Power Pool, Inc.

Description: Order 1000 Aggregate Study Revisions to be effective 1/1/2015.

Filed Date: 8/15/14.

Accession Number: 20140815-5134.

Comments Due: 5 p.m. ET 9/5/14.

Docket Numbers: ER13-897-004.

Applicants: Louisville Gas and Electric Company.

Description: Order 1000 SERTP August 2014 Compliance Filing to be effective 6/1/2014.

Filed Date: 8/18/14.

Accession Number: 20140818-5143.

Comments Due: 5 p.m. ET 9/8/14.

Docket Numbers: ER13-908-004.

Applicants: Alabama Power Company.

Description: Order No. 1000 Third Regional Compliance Filing—FILING SUBMITTED UNDER PROTEST to be effective 8/18/2014.

Filed Date: 8/18/14.

Accession Number: 20140818-5152.

Comments Due: 5 p.m. ET 9/8/14.

Docket Numbers: ER13-913-004.

Applicants: Ohio Valley Electric Corporation.

Description: Order 1000 SERTP August 2014 Compliance Filing to be effective 6/1/2014.

Filed Date: 8/18/14.

Accession Number: 20140818-5145.

Comments Due: 5 p.m. ET 9/8/14.

Docket Numbers: ER13-2477-005; ER10-1946-007; ER11-3859-010; ER13-2476-005; ER11-3861-009; ER11-3864-010; ER13-2475-005; ER11-3866-010; ER12-192-008; ER11-3867-010; ER11-3857-010; ER11-4266-009.

Applicants: Brayton Point Energy, LLC, Broad River Energy LLC, Dighton Power, LLC, Elwood Energy, LLC, Empire Generating Co, LLC, EquiPower Resources Management, LLC, Kincaid Generation, L.L.C., Lake Road Generating Company, L.P., Liberty Electric Power, LLC, MASSPOWER, Milford Power Company, LLC, Richland-Stryker Generation LLC.

Description: Notice of Change in Status of the ECP MBR Sellers under ER13-2477, et. al.

Filed Date: 8/18/14.

Accession Number: 20140818-5133.

Comments Due: 5 p.m. ET 9/8/14.

Docket Numbers: ER14-480-002.

Applicants: California Independent System Operator Corporation.

Description: 2014-08-18_Order764_SecondCompliance to be effective 5/1/2014.

Filed Date: 8/18/14.

Accession Number: 20140818-5137.

Comments Due: 5 p.m. ET 9/8/14.

Docket Numbers: ER14-2185-001.

Applicants: EFS Parlin Holdings, LLC.

Description: Supplement to July 11, 2014 Supplement of EFS Parlin Holdings, LLC tariff filing.

Filed Date: 8/15/14.

Accession Number: 20140815-5063.

Comments Due: 5 p.m. ET 9/5/14.

Docket Numbers: ER14-2461-001.

Applicants: PPL Electric Utilities Corporation, PJM Interconnection, L.L.C.

Description: PPL submits compliance filing per 8/11/2014 Order in ER14-2461 to be effective 8/8/2014.

Filed Date: 8/18/14.

Accession Number: 20140818-5146.

Comments Due: 5 p.m. ET 9/8/14.

Docket Numbers: ER14-2662-000.

Applicants: Southern Electric Generating Company.

Description: SEGCo 2014 Updated Depreciation Rates Filing to be effective 1/1/2015.

Filed Date: 8/15/14.

Accession Number: 20140815-5128.

Comments Due: 5 p.m. ET 9/5/14.

Docket Numbers: ER14-2663-000.

Applicants: Georgia Power Company.

Description: FP&L Scherer Unit 4 TSA Amendment Filing (SEGCo Updated Depreciation Rates) to be effective 1/1/2015.

Filed Date: 8/15/14.

Accession Number: 20140815-5130.

Comments Due: 5 p.m. ET 9/5/14.

Docket Numbers: ER14-2664-000.

Applicants: Georgia Power Company.

Description: JEA Scherer Unit 4 TSA Amendment Filing (SEGCo Updated Depreciation Rates) to be effective 1/1/2015.

Filed Date: 8/15/14.

Accession Number: 20140815-5132.

Comments Due: 5 p.m. ET 9/5/14.

Docket Numbers: ER14-2665-000.

Applicants: Alabama Power Company.

Description: Attachment S (APCo and SEGCo) 2014 Updated Depreciation Rates Filing to be effective 1/1/2015.

Filed Date: 8/15/14.

Accession Number: 20140815-5135.

Comments Due: 5 p.m. ET 9/5/14.

Docket Numbers: ER14-2666-000.

Applicants: Avalon Solar Partners, LLC.

Description: Avalon Solar Partners Market Based Rate Application to be effective 10/15/2014.

Filed Date: 8/18/14.

Accession Number: 20140818-5000.

Comments Due: 5 p.m. ET 9/8/14.

Docket Numbers: ER14-2667-000.

Applicants: EquiPower Resources Management, LLC.

Description: Normal filing 2014 to be effective 8/19/2014.

Filed Date: 8/18/14.

Accession Number: 20140818-5096.

Comments Due: 5 p.m. ET 9/8/14.

Docket Numbers: ER14-2668-000.

Applicants: PJM Interconnection, L.L.C.

Description: First Revised Service Agreement No. 3098 (Queue No. Y1-026) to be effective 7/17/2014.

Filed Date: 8/18/14.

Accession Number: 20140818-5166.

Comments Due: 5 p.m. ET 9/8/14.

Docket Numbers: ER14-2669-000.

Applicants: PJM Interconnection, L.L.C.

Description: First Revised Service Agreement No. 3320 (Queue No. X3-043) to be effective 7/17/2014.

Filed Date: 8/18/14.

Accession Number: 20140818-5175.

Comments Due: 5 p.m. ET 9/8/14.

Docket Numbers: ER14-2670-000.

Applicants: Pennsylvania Electric Company, Metropolitan Edison Company, PJM Interconnection, L.L.C.

Description: Penelec and MetEd submit Construction Agreements—PJM SA Nos. 3924 and 3925 to be effective 4/28/2014.

Filed Date: 8/18/14.

Accession Number: 20140818-5186.

Comments Due: 5 p.m. ET 9/8/14.

Docket Numbers: ER14-2671-000

Applicants: PJM Interconnection, L.L.C.

Description: First Revised Service Agreement No. 2859 (Queue No. W3-057) to be effective 7/17/2014.

Filed Date: 8/18/14.

Accession Number: 20140818-5191.

Comments Due: 5 p.m. ET 9/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-20132 Filed 8-22-14; 8:45 am]

BILLING CODE 6717-01-P